DEPARTMENT OF HOMELAND SECURITY

Federal Emergency Management Agency

44 CFR Part 62

[Docket ID: FEMA-2016-0009]

RIN 1660-AA88

National Flood Insurance Program: Update To Address Information for Claims Appeals

AGENCY: Federal Emergency Management Agency, DHS.

ACTION: Final rule.

SUMMARY: The Federal Emergency Management Agency is revising its regulations to remove address information for the National Flood Insurance Program's claims appeals process.

DATES: This final rule is effective April 7, 2016.

FOR FURTHER INFORMATION CONTACT: Claudia Murphy, Policyholder Services Division Director, Federal Insurance and Mitigation Administration, Federal Emergency Management Agency, 400 C Street SW., Washington, DC 20472-3020, 202-646-2775, or (email) Claudia.murphy@fema.dhs.gov.

SUPPLEMENTARY INFORMATION:

I. Removal of Address

In accordance with Federal Emergency Management Agency (FEMA) regulations at title 44 Code of Federal Regulations (CFR) part 62, subpart B, once a flood insurer participating in the National Flood Insurance Program (NFIP) issues a final claim determination, a policyholder may appeal an action related to the claim taken by the insurer, a FEMA employee, or insurance agent. To pursue an appeal, a policyholder must submit a written appeal to FEMA within 60 days from the date of the decision. See 44 CFR 62.20(e)(1).

The current regulations at § 62.20(e)(1) indicate that policyholders should submit their appeal to: DHS/FEMA, Mitigation Directorate, Federal Insurance Administrator, 1800 S. Bell Street, Arlington, VA 20598-MS3010. FEMA is removing this address from the regulations because the Federal Insurance and Mitigation Administration (FIMA), which handles claims appeals, is relocating from Arlington, Virginia to Washington, DC, and the address in the regulations will no longer be valid. Beginning April 4, 2016, policyholders should submit written appeals to FEMA at the following address: Federal Insurance and Mitigation Administration (FIMA), DHS/FEMA, 400 C Street SW., 3rd Floor, Washington, DC 20472-3020. FEMA is also introducing the option to submit written appeals via electronic mail at FEMA-NFIP-Appeals@fema.dhs.gov.

FEMA will make this information available on its Web site at www.fema.gov. FEMA has decided to no longer include the address in the regulations, and instead to continue providing the address via its Web site and requiring participating flood insurance carriers to include the address in all denial letters,¹ so that it is more readily available to policyholders and so that FEMA can more easily update the address.

¹ See FEMA, Memorandum For: WYO Principal Coordinators and the NFIP Direct Servicing Agent, FIMA Address Change, W-16011 (March 8, 2016), http://www.nfipiservice.com/Stakeholder/pdf/bulletin/w-16011.pdf.

II. Regulatory Analysis

a. Administrative Procedure Act

FEMA did not publish a Notice of Proposed Rulemaking for this regulation. FEMA finds that this rule is exempt from the Administrative Procedure Act's (5 U.S.C. 553(b)) notice and comment rulemaking requirements because it is purely procedural in nature. This rule is making a technical change to ensure the accuracy of FEMA's regulations as FIMA relocates from Arlington, Virginia to Washington, DC. FEMA believes this technical amendment is not controversial and will not result in any adverse comments. These changes do not confer any substantive rights, benefits, or obligations; therefore, this rule will have no substantive effect on the public.

Under 5 U.S.C. 553(d)(3), FEMA has determined it has good cause to make this technical amendment effective immediately, so that appellants are aware of the new address as soon as possible and their appeals will be received at the correct address.

b. Executive Order 12866, as Amended, Regulatory Planning and Review; Executive Order 13563, Improving Regulation and Regulatory Review

This rule is not a “significant regulatory action” under section 3(f) of Executive Order 12866, “Regulatory Planning and Review” (58 FR 51735, Oct. 4, 1993), accordingly FEMA has not submitted it to the Office of Management and Budget for review. As this rule involves a non-substantive change, FEMA expects that it will not impose any costs on the public.

c. Regulatory Flexibility Act

The Regulatory Flexibility Act (5 U.S.C. 601-612) requires that special consideration be given to the effects of proposed regulations on small entities. This rule does not require a Notice of Proposed Rulemaking and, therefore, is exempt from the requirements of the Regulatory Flexibility Act.

d. Paperwork Reduction Act of 1995

In accordance with the Paperwork Reduction Act of 1995 (44 U.S.C. Ch. 3501-3520), FEMA reviewed this final rule and has determined that there are no new collections of information contained therein.

e. Executive Order 13175, Consultation and Coordination With Indian Tribal Governments

This rule does not have Tribal implications under Executive Order 13175, “Consultation and Coordination with Indian Tribal Governments” (65 FR 67249, Nov. 9, 2000), because it does not have a substantial direct effect on one or more Indian Tribes, on the relationship between the Federal Government and Indian Tribes, or on the distribution of power and responsibilities between the Federal Government and Indian Tribes.

f. Executive Order 13132, Federalism

A rule has implications for federalism under Executive Order 13132, “Federalism” (64 FR 43255, Aug. 10, 1999), if it has a substantial direct effect on State or local governments and would either preempt State law or impose a substantial direct cost of compliance on them. FEMA has analyzed this rule under that Order and determined that it does not have implications for federalism.

g. Congressional Review of Agency Rulemaking

FEMA has sent this final rule to the Congress and to the Government Accountability Office under the Congressional Review of Agency Rulemaking Act (Act), Public Law 104-121, 110 Stat. 873 (March 29, 1996) (5 U.S.C. 804). The rule is not a “major rule” within the meaning of that Act and will not result in an annual effect on the economy of $100,000,000 or more. Moreover, it will not result in a major increase in costs or prices for consumers, individual industries, Federal, State, or local government agencies, or geographic regions. FEMA does not expect that it will have “significant adverse effects” on competition, employment, investment, productivity, innovation, or on the ability of United States-based enterprises to compete with foreign-based enterprises.

List of Subjects in 44 CFR Part 62

Claims, Flood insurance, Reporting and recordkeeping requirements.

For the reasons discussed in the preamble, the Federal Emergency Management Agency is amending 44 CFR part 62 as follows:

PART 62—SALE OF INSURANCE AND ADJUSTMENT OF CLAIMS

1. The authority citation for part 62 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

2. In § 62.20, revise paragraph (e)(1) to read as follows:

§ 62.20 Claims appeals.

* * * * *

(e) * * *

(1) Submit a written appeal to FEMA within 60 days from the date of the decision.

* * * * *

Authority: 42 U.S.C. 4001 et seq.

W. Craig Fugate,
Administrator, Federal Emergency Management Agency.

[FR Doc. 2016-08025 Filed 4-6-16; 8:45 am]

BILLING CODE 9111-A6-P